DEPARTMENT OF HEALTH AND HUMAN SERVICES

National Institute of Health

Center for Scientific Review; Amended Notice of Meeting

Notice is hereby given of a change in the meeting of the Respiratory Integrative Biology and Translational Research Study Section, March 8, 2004, 8:30 a.m. to March 9, 2004, 5:30 p.m., Governor's House Hotel, 1615 Rhode Island Avenue, NW., Washington, DC 20036 which was published in the Federal Register on February 13, 2004, 69 FR 7240-7241.

The meeting will be held at the Marriott Courtyard, 1600 Rhode Island Avenue, NW., Washington, DC 20036. the dates and time remain the same. The meeting is closed to the public.

Dated: February 20, 2004.
LaVerne Y. Stringfield,
Director, Office of Federal Advisory Committee Policy.

[FR Doc. 04-4328 Filed 2-26-04; 8:45 am]

BILLING CODE 4140-01-M